DEPARTMENT OF LABOR

Employment and Training Administration

[TA-W-60,837]

Bright Horizons/MSX/Norfolk Assembly Plant, a/k/a Ford Family Service & Learning Center, Norfolk, VA; Notice of Termination of Investigation

Pursuant to Section 221 of the Trade Act of 1974, as amended, an investigation was initiated on January 26, 2007, in response to a worker petition filed on behalf of workers at Bright Horizons/MSX/Norfolk Assembly Plant, Norfolk, Virginia.

The petitioners have requested that the petition be withdrawn. Consequently, the investigation has been terminated.

Signed at Washington, DC, this 15th day of February, 2007.
Richard Church,
Certifying Officer, Division of Trade Adjustment Assistance.

[FR Doc. E7-3277 Filed 2-26-07; 8:45 am]

BILLING CODE 4510-FN-P